RECOVERY ACCOUNTABILITY AND TRANSPARENCY BOARD

Privacy Act of 1974; System of Records

AGENCY: Recovery Accountability and Transparency Board.

ACTION: Notice of amendment to existing Privacy Act system of records.

SUMMARY: The Recovery Accountability and Transparency Board (Board) is issuing public notice of its intent to amend a system of records that it maintains subject to the Privacy Act of 1974 (5 U.S.C. 552a), as amended. Specifically, RATB-11 entitled “Oversight Support” is being amended to reflect one new routine use for information contained in the system and to make various technical corrections and/or clarifications.

DATES: This action will be effective without further notice on August 5, 2015 unless comments are received that would result in a contrary determination.

ADDRESSES: Comments may be submitted:

By Mail or Hand Delivery: Atticus J. Reaser, Office of General Counsel, Recovery Accountability and Transparency Board, 1717 Pennsylvania Avenue NW., Suite 700, Washington, DC 20006;

By Fax: (202) 254-7970; or

By Email to the Board: comments@ratb.gov.

All comments on the proposed amended systems of records should be clearly identified as such.

FOR FURTHER INFORMATION CONTACT: Atticus J. Reaser, General Counsel, Recovery Accountability and Transparency Board, 1717 Pennsylvania Avenue NW., Suite 700, Washington, DC 20006, (202) 254-7900.

SUPPLEMENTARY INFORMATION: The Board is amending a system of records that it maintains subject to the Privacy Act of 1974 (5 U.S.C. 552a), as amended. Specifically, RATB-11 entitled “Oversight Support” is being amended to reflect one new routine use for information contained in the system to enable the transfer of information to successor data custodians in advance of the Board's termination on September 30, 2015. The Board is also making technical corrections and/or clarifications in other sections, including the security classification, categories of individuals covered by the system, authority for maintenance of system, purpose(s), routine uses, safeguards, system manager, notification procedure, record access procedures, and contesting records procedures. Also for clarity, the Board is adding a separate section specifically addressing exemptions from certain provisions of the Privacy Act; however, the underlying exemptions are not new. In accordance with 5 U.S.C. 552a(r), the Board has provided a report of this amended system of records to the Office of Management and Budget and to Congress. The amended system of records reads as follows:

RATB—11

SYSTEM NAME:

Oversight Support

SECURITY CLASSIFICATION:

Controlled Unclassified Information.

SYSTEM LOCATION:

The principal location of the system is the Recovery Accountability and Transparency Board, 1717 Pennsylvania Avenue NW., Suite 700, Washington, DC 20006.

CATEGORIES OF INDIVIDUALS COVERED BY THE SYSTEM:

This system contains records on individuals who relate to official Recovery Accountability and Transparency Board (Board) efforts undertaken in support of its oversight responsibilities reflected in the authorities listed in the Authority for Maintenance of the System section below. These individuals include:

(a) Individuals who are or have been the subject of investigations or inquiries identified by or submitted to the Board;

(b) Individuals who are or have been witnesses, complainants, or informants in investigations or inquiries identified by or submitted to the Board;

(c) Individuals who are or have been potential subjects or parties to an investigation or inquiry identified by or submitted to the Board; and

(d) Individuals who are or have been related to entities or individuals that are or have been a subject of, potential subject of, or party to an investigation or inquiry identified by or submitted to the Board.

The system also contains records concerning individuals in their entrepreneurial capacity, corporations, and other business entities. These records are not subject to the Privacy Act of 1974 (5 U.S.C. 552a), as amended.

CATEGORIES OF RECORDS IN THE SYSTEM:

Information relating to investigations and inquiries identified by or submitted to the Board, including:

(a) Letters, memoranda, and other documents describing complaints, derogatory information, or alleged criminal, civil, or administrative misconduct; and

(b) General intelligence and relevant data, leads for Inspectors General (or other applicable oversight and law enforcement entities), reports of investigations and related exhibits, statements and affidavits, and records obtained during an investigation or inquiry.

AUTHORITY FOR MAINTENANCE OF SYSTEM:

The American Recovery and Reinvestment Act of 2009, §§ 1521, 1523(a)(1), Pub. L. 111-5, 123 Stat. 115, 289-90 (2009) (Recovery Act), Education Jobs Fund, Pub. L. 111-226, § 101, 124 Stat. 2389 (2010), and Disaster Relief Appropriations Act, 2013, § 904(d), Pub. L. 113-2, 127 Stat. 4, 18 (2013), as well as in accordance with the Board's responsibility to develop and test technology resources and oversight mechanisms to detect and remediate fraud, waste, and abuse in federal spending (see, e.g., Consolidated and Further Continuing Appropriations Act, 2015, Pub. L. 113-235, 128 Stat. 2130, 2369 (2014)).

PURPOSE(S):

The purpose of this system of records is to enable the Board to carry out its oversight responsibilities under applicable law, including but not necessarily limited to: coordinating with others and conducting oversight to detect and prevent fraud, waste, and abuse of Recovery Act and Education Jobs Fund funds; developing and using information technology resources and oversight mechanisms to detect and remediate waste, fraud and abuse in the obligation and expenditure of funds appropriated for purposes related to the impact of Hurricane Sandy; and developing and testing information technology resources and oversight mechanisms to enhance transparency of and detect and remediate waste, fraud, and abuse in all federal spending for use by the Board and other federal agencies and entities.

ROUTINE USES OF RECORDS MAINTAINED IN THE SYSTEM, INCLUDING CATEGORIES OF USERS AND THE PURPOSES OF SUCH USES:

In addition to those disclosures generally permitted under the Privacy Act (5 U.S.C. 552a(b)), the records or information contained in this system of records may specifically be disclosed outside the Board as a routine use pursuant to the Privacy Act (5 U.S.C. 552a(b)(3)) as follows:

A. To the appropriate federal, state, local, or tribal agency responsible for investigating, prosecuting, enforcing, or implementing a statute, rule, regulation, or order, if the information is relevant to a violation or potential violation of civil or criminal law or regulation within the jurisdiction of the receiving entity.

B. To any individual or entity when necessary to elicit information that will assist in a Board review or audit.

C. To appropriate officials and employees of a federal agency or entity that require information relevant to a decision concerning the hiring, appointment, or retention of an individual; the issuance, renewal, suspension, or revocation of a security clearance; or the execution of a security or suitability investigation.

D. To provide responses to queries from federal agencies and entities, including but not limited to regulatory and law enforcement agencies, regarding federal fund recipients, subrecipients, or vendors, or those seeking federal funds, when the information is relevant to a determination related to or arising out of a past, present or prospective (i) contract or (ii) grant or other benefit.

E. To a Member of Congress or staff acting upon the Member's behalf when the Member or staff requests the information on behalf of, and at the request of, the individual who is the subject of the record.

F. Information may be disclosed to the Department of Justice (DOJ), or in a proceeding before a court, adjudicative body, or other administrative body before which the Board is authorized to appear, when:

1. The Board, or any component thereof; or

2. Any employee of the Board in his or her official capacity; or

3. Any employee of the Board in his or her individual capacity where the DOJ or the Board has agreed to represent the employee; or

4. The United States, if the Board determines that litigation is likely to affect the Board or any of its components, is a party to litigation or has an interest in such litigation, and the use of such records by the DOJ or the Board is deemed by the Board to be relevant and necessary to the litigation, provided, however, that in each case it has been determined that the disclosure is compatible with the purpose for which the records were collected.

G. Information may be disclosed to the National Archives and Records Administration in records management inspections.

H. Information may be disclosed to contractors, grantees, consultants, or volunteers performing or working on a contract, service, grant, cooperative agreement, job, or other activity for the Board and who have a need to access the information in the performance of their duties or activities for the Board.

I. To appropriate federal agencies or entities that will act as successor legal and/or physical custodians of the information disclosed from the system.

DISCLOSURE TO CONSUMER REPORTING AGENCIES:

Not applicable.

POLICIES AND PRACTICES FOR STORING, RETRIEVING, ACCESSING, RETAINING, AND DISPOSING OF RECORDS IN THE SYSTEM:

STORAGE:

Information in this system is stored electronically on digital storage devices or as hard copy files. All record storage procedures are in accordance with current applicable regulations.

RETRIEVABILITY:

Records are retrievable by database management systems software designed to retrieve data elements based upon role-based user access privileges. Records may be retrieved by personal identifiers such as, but not limited to, name, social security number, date of birth, or telephone number. Records may also be retrieved by non-personal information such as file number, entity/institution name, subject matter, agency involved, or other information.

SAFEGUARDS:

The Board has minimized the risk of unauthorized access to the system by establishing a secure environment for exchanging electronic information. Physical access to the data system housed within the facility is controlled by Federal Information Processing Standards (FIPS) compliant access controlled systems. The entire complex is patrolled by security during non-business hours. The computer system offers a high degree of resistance to tampering and circumvention and limits data access to Board and contract staff on a need-to-know basis. Individuals' ability to access and alter records within the system is controlled. All users of the system of records are provided a unique user identification (ID) with personal identifiers. User IDs are consistent with the above referenced role-based access privileges to maintain proper security of law enforcement and any other sensitive information. In concert with access controls, audit trails are used to record user and system activity within the system and its associated applications.

Paper records are maintained in file cabinets which may be locked or in specified areas to which only authorized personnel have access.

RETENTION AND DISPOSAL:

Board personnel will review records on a periodic basis to determine whether they should be retained or modified. Further, the Board will retain and dispose of these records in accordance with Board Records Control Schedules approved by the National Archives and Records Administration.

SYSTEM MANAGER AND ADDRESS:

Executive Director, Recovery Accountability and Transparency Board, 1717 Pennsylvania Avenue NW., Suite 700, Washington, DC 20006.

NOTIFICATION PROCEDURE:

Address inquiries to the System Manager listed above. Note that the major part of this system is exempt from this requirement pursuant to 5 U.S.C. 552a(j)(2) and (k)(2). See “System Exempted from Certain Provisions of the Act” below.

RECORD ACCESS PROCEDURES:

The major part of this system is exempt from this requirement pursuant to 5 U.S.C. 552a(j)(2) and (k)(2). See “System Exempted from Certain Provisions of the Act” below. To the extent that this system is not subject to exemption, it is subject to access. A determination as to exemption shall be made at the time a request for access is received. A request for access to records contained in this system shall be made in writing, with the envelope and the letter clearly marked “Privacy Access Request.” Include in the request the full name of the individual involved, his or her current address, date and place of birth, notarized signature (or submitted with date and signature under penalty of perjury), and any other identifying number or information which may be of assistance in locating the record. The requester shall also provide a return address for transmitting the information. Access requests shall be directed to the System Manager listed above.

CONTESTING RECORDS PROCEDURES:

Requesters shall direct their request to the System Manager listed above, stating clearly and concisely what information is being contested, the reason for contesting it, and the proposed amendment to the information. Note that the major part of this system is exempt from this requirement pursuant to 5 U.S.C. 552a(j)(2) and (k)(2). See “System Exempted from Certain Provisions of the Act” below.

RECORD SOURCE CATEGORIES:

The subjects of investigations and inquiries; individuals and entities with which the subjects of investigations and inquiries are associated; federal, state, local, and foreign law enforcement and non-law enforcement agencies and entities; private citizens; witnesses; informants; and public and/or commercially available source materials.

SYSTEM EXEMPTED FROM CERTAIN PROVISIONS OF THE ACT:

The Board has exempted this system from the following provisions of the Privacy Act pursuant to the general authority in 5 U.S.C. 552a(j)(2): 5 U.S.C. 552a(c)(3) and (c)(4); (d); (e)(1), (e)(2), (e)(3), (e)(4)(G)-(I), (e)(5), and (e)(8); (f); and (g). Additionally, the Board has exempted this system from the following provisions of the Privacy Act pursuant to the general authority in 5 U.S.C. 552a(k)(2): 5 U.S.C. 552a(c)(3); (d); (e)(1) and (e)(4)(G)-(H); and (f).

Dated: June 16, 2015.
Kathleen S. Tighe,
Chair, Recovery Accountability and Transparency Board.

[FR Doc. 2015-16462 Filed 7-2-15; 8:45 am]

BILLING CODE 6821-15-P